DEPARTMENT OF THE INTERIOR

Bureau of Indian Affairs

[189A2100DD/AAKC001030/A0A51010.999900 253G]

Proclaiming Certain Lands as Reservation for the Spokane Tribe of the Spokane Reservation

AGENCY: Bureau of Indian Affairs, Interior.

ACTION: Notice.

SUMMARY: This notice informs the public that the Principal Deputy Assistant Secretary—Indian Affairs, exercising the authority of the Assistant Secretary—Indian Affairs, proclaimed approximately 145 acres, more or less, an addition to the reservation of the Spokane Tribe of the Spokane Reservation on March 12, 2018.

FOR FURTHER INFORMATION CONTACT: Ms. Sharlene M. Round Face, Bureau of Indian Affairs, Division of Real Estate Services, 1849 C Street NW, MS-4642-MIB, Washington, DC 20240, telephone (202) 208-3615.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 5110) for the lands described below. These lands were proclaimed to be part of the reservation for the Spokane Tribe of the Spokane Reservation in Spokane County, Washington.

Spokane Tribe of the Spokane Reservation, 1 Parcel, Willamette Meridian, Spokane County, Washington, Legal Description Containing 145 Acres, More or Less

West Plains Parcel (Tract 102-T-1368)

The Southeast Quarter of Section 22, Township 25 North, Range 41 East, W.M., in Spokane County, Washington EXCEPT that portion conveyed to the State of Washington by deed dated June 19, 1929, recorded under Recording No. 997235 and dated July 25, 1942, recorded under Recording No. 557182A; ALSO except that portion conveyed to Spokane County for Craig Road by deed recorded June 7, 1906, under Recording No. 146192; ALSO except the east 830 feet of the South 497.5 feet of the Southeast Quarter of said Section 22, containing 145 acres, more or less after all exceptions.

The above described lands contain a total of 145 acres, more or less, which are subject to all valid rights, reservations, rights-of-way, and easements of record.

This proclamation does not affect title to the lands described above, nor does it affect any valid existing easements for public roads, highways, public utilities, railroads and pipelines, or any other valid easements or rights-of-way or reservations of record.

Dated: March 12, 2018.
John Tahsuda,
Principal Deputy Assistant Secretary—Indian Affairs, Exercising the Authority of the Assistant Secretary—Indian Affairs.

[FR Doc. 2018-08997 Filed 4-27-18; 8:45 am]

BILLING CODE 4337-15-P